DEPARTMENT OF TRANSPORTATION

Office of the Secretary

[Docket DOT-OST-2025-1887]

Revitalizing Washington Dulles International Airport

AGENCY: Office of the Secretary, Department of Transportation (Department).

ACTION: Request for information (RFI).

SUMMARY: The Department is interested in design concepts and construction and financing proposals for the development of completely new terminals and concourses to replace or build upon the existing main terminal and satellite concourses at Washington Dulles International Airport. This RFI is being conducted to inform and develop potential approaches for entirely new terminal(s) and concourses to replace the existing terminal and concourses. The Department will also accept submissions that propose to retain portions of the existing airport facilities, including, for example, by incorporating all or part of the historic Eero Saarinen-designed main terminal into a new terminal building.

DATES: Questions regarding this RFI must be submitted by December 15, 2025. By December 26, 2025, the Department will post on its website answers to questions received. Final submissions are due by January 20, 2026.

ADDRESSES: Interested persons are encouraged to submit responses to the questions posed in this RFI, along with supporting information, identified by “Washington Dulles Revitalization,” by any of the following methods:

Federal eRulemaking Portal: http://www.regulations.gov. Follow the instructions for submitting comments.

Mail: U.S. Department of Transportation, Office of the Secretary, 1200 New Jersey Ave. SE, Washington, DC 20590.

FOR FURTHER INFORMATION CONTACT: Owen Morgan, U.S. Department of Transportation, Office of the Secretary, 1200 New Jersey Ave. SE, Washington, DC 20590. Telephone: (202) 366-4000. Email: DullesRFI@dot.gov.

SUPPLEMENTARY INFORMATION:

1. Purpose

When people arrive to the Nation's capital from abroad, the airports they see should be inspiring, serving as a symbol of the might and prestige of the United States. Washington, DC's airports should be a source of pride for Americans. Yet they are anything but. Washington Dulles International Airport in particular—the busiest of the three airports servicing the National Capital Region—has fallen into a state of disrepair since it opened its doors in 1962. Once known for its iconic aerofoil-inspired main terminal designed by Eero Saarinen, the airport is now better known for its inefficient system of people movers that deliver passengers as much as a half mile or more away from their gates, its infamous moon-rover-like “mobile lounges,” jet fuel smell in the concourses, and a paltry number of gates at the main terminal. In short, Washington Dulles International Airport is no longer an airport suitable and grand enough for the capital of the United States of America.

On August 28, 2025, President Trump signed Executive Order (E.O.) 14344, Making Federal Architecture Beautiful Again. The goal of E.O. 14344 is to update the policies guiding Federal architecture so that America's public buildings inspire the American people and encourage civic virtue, and so that architects designing Federal buildings serve the American people. Consistent with E.O. 14344, the Department is requesting ideas from interested parties for design proposals, construction concepts, and potential financing plans, including public-private partnership ideas, for completely new terminals and concourses to replace the existing main terminal and satellite concourses at Washington Dulles International Airport or for proposals to build upon and transform the existing facilities. This RFI is an invitation to submit information in response to questions posed below, as well as design, finance, and construction concepts for a new international gateway airport for the National Capital Region. Ideas should be bold, creative, and uncompromising. Americans deserve a big, beautiful new airport for the Nation's capital.

The Department, which owns the airport, intends to provide all submissions received under this RFI to the Metropolitan Washington Airports Authority (MWAA), which operates the airport under a long-term lease, for MWAA's consideration and potential sponsorship.

2. Background

Washington Dulles International Airport has served the DC region since its opening in 1962. In 2024, the airport was the 24th largest in the United States by passenger enplanements.

The Secretary of Transportation and MWAA first executed a lease for Ronald Reagan National Airport and Washington Dulles International Airport and the surrounding properties in 1987 (“the lease”). Prior to the establishment of MWAA and the lease of both airports to MWAA, the airports had been operated by the Federal Aviation Agency and its predecessor (the Civil Aeronautics Authority). The Metropolitan Washington Airports Act of 1986 ¹ (the Act), authorized the lease to transfer operating responsibility for both airports to MWAA, a public body created by an interstate compact between the Commonwealth of Virginia and the District of Columbia. The lease currently expires in 2100.

¹ Codified at 49 U.S.C. 49101 et seq.

The Department seeks responses to the questions posed in this RFI, along with supporting information, developed independently from the current capital improvement plans proposed by MWAA, including the Washington Dulles International Airport Master Plan approved by the MWAA board of directors on July 16, 2025.

3. Nature of Information Request ²

² This is not a Screening Information Request or Request for Offers. DOT is not seeking or accepting unsolicited proposals related to this activity. The Department will not pay for any information received or costs incurred in preparing a response to this request. Any costs associated with a submittal are solely at the interested vendor's expense. The Department reserves the right to communicate with any, some, or none of the respondents. Any submissions will remain with the Department for its use and will not be returned to the respondents.

The purpose of this RFI is to solicit information for design-construction plans for new terminal(s) and concourses to replace or build upon the existing terminal and concourses at Washington Dulles International Airport that can assist the Department in:

• Learning more about what designs may be suitable and appropriate for the site.

• Gaining a better understanding of what structures could be employed to finance a redesign or design-build of the airport or a major renovation thereof.

• Learning the estimated timeline for completion of such a project.

• Gathering cost information.

The Department may use information obtained through this request to assist, inform, and research paths for new terminals and concourses to replace the existing terminal(s) and concourses using all available resources and authorities. The Department will also accept submissions that propose to retain all or part of the existing airport facilities, including the Eero Saarinen-designed main terminal, such as proposals to incorporate portions of the Saarinen structure into a new terminal building. This information will assist the Department in its consideration of how best to accomplish this task.

DOT requests statements of interest and capability statements from qualified industry partners.

4. Submittal Requests for RFI

Interested members of the public, including potential vendors, are requested to submit information on the following:

Company Information. Respondents are requested to submit the following, as applicable:

• Company name and address;

• URL of company website (if applicable); and

• Point of contact, including telephone number and email address.

RFI Questions. Any interested member of the public, including a potential vendor, is invited to provide information responsive to the questions below. Responses will enable the Department to ascertain potential options for detailed design-construction plans for new terminal(s) and concourses to replace or build upon the existing terminal and concourses at Washington Dulles International Airport.

1. (Design/Concept) What designs should be considered for a bold new airport to replace the existing terminal and concourses?

• Are there any detailed renderings or designs sufficient to convey the concept?

• Is there a description of the vision, architecture, and key elements of the concept?

• Is there a design that could retain all or part of the existing airport facilities, including the Eero Saarinen-designed main terminal?

2. (Cost/Price) What is a Rough Order of Magnitude (ROM) cost estimate for a redesign or major renovation?

3. (Structure/Financing) How could a design-build be structured and financed to maximize available funds and speed of construction of new terminal(s) and concourses to replace or build upon the existing terminal and concourses?

• What are any innovative approaches to financing and delivery methods, such as a Public-Private Partnership (P3), Airport Investment Partnership Program, alternate delivery methods, exceptions to procurement requirements for recipients of Federal financial assistance, or other creative concepts for structure and finance of the design-build?

4. (Timing) What is the expected timing of a design-build of a redesign or major renovation(s), such as discussed in Item 1? Specifically:

• What is the expected timing of each phase of design-build and the schedule of activities necessary for a complete redesign and build or major renovation?

• What are the principal factors that could accelerate or delay a design and build of a redesign or major renovation of the airport?

5. (Limitations/Impediments) Are there any impediments or limitations to a successful design-build? What are the anticipated construction requirements for implementing your solution?

6. (Mitigation of Operational Impact) How could a redesign or major renovation be carried out while mitigating and minimizing disruption to airport operations during that time?

5. Timeline and Delivery of Submittal

See also the DATES section of this notice. Submit questions within December 15, 2025. By December 26, 2025, the Department will post on its website answers to questions received. Final submissions are due January 20, 2026.

Submittals: Interested parties must provide responses in writing. Responses to the RFI questions should be concise and reasonable in length.

The ROMs will be used solely for internal informational and planning purposes.

The Department may request clarification to responses directly related to this RFI through direct contact with respondents. Respondents must identify and clearly mark any proprietary information contained in their submissions and must be prepared to provide justification for confidential treatment to the Department of such designations if requested. This proprietary information will be will be treated confidentially by the Department; however, nothing alters the Department's obligations under existing law, including any duties owed by the Department under the Freedom of Information Act. The Department may need the Respondent's justification of the proprietary designation to support withholding the documents or information from public disclosure upon request.

Issued in Washington, DC, under authority at 49 U.S.C. 49101 et seq.
Sean P. Duffy,
Secretary.

[FR Doc. 2025-22010 Filed 12-4-25; 8:45 am]

BILLING CODE 4910-57-P